DEPARTMENT OF ENERGY

Federal Energy Regulatory Commission

Combined Notice of Filings #1

February 1, 2008.

Take notice that the Commission has received the following Natural Gas Pipeline Rate and Refund Report filings:

Docket Numbers: RP96-320-080.

Applicants: Gulf South Pipeline Company, LP.

Description: Gulf South Pipeline Co., LP submits an amendment to a negotiated rate letter agreement executed re the East Texas to Mississippi Expansion Project.

Filed Date: 01/30/2008.

Accession Number: 20080131-0195.

Comment Date: 5 p.m. Eastern Time on Monday, February 11, 2008.

Docket Numbers: RP00-70-018.

Applicants: Algonquin Gas Transmission, LLC.

Description: Algonquin Gas Transmission, LLC submits Original Sheet 88 et al. to FERC Gas Tariff, Fifth Revised Volume 1, to become effective 2/1/08.

Filed Date: 01/30/2008.

Accession Number: 20080131-0196.

Comment Date: 5 p.m. Eastern Time on Monday, February 11, 2008.

Docket Numbers: RP04-99-004.

Applicants: Tennessee Gas Pipeline Company.

Description: Tennessee Gas Pipeline Company submits Second Revised Sheet 305A et al. to FERC Gas Tariff, Fifth Revised Volume 1 to become effective 3/1/08.

Filed Date: 01/30/2008.

Accession Number: 20080201-0101.

Comment Date: 5 p.m. Eastern Time on Monday, February 11, 2008.

Docket Numbers: RP08-135-001.

Applicants: CenterPoint Energy-Mississippi River Transmission.

Description: CenterPoint Energy-Mississippi River Transmission Corporation submits Substitute Fourth Revised Sheet 92 et al. to FERC Gas Tariff, Third Revised Volume 1 to become effective 1/21/08.

Filed Date: 01/29/2008.

Accession Number: 20080130-0201.

Comment Date: 5 p.m. Eastern Time on Monday, February 11, 2008.

Docket Numbers: RP08-176-000.

Applicants: Venice Gathering System, LLC.

Description: Venice Gathering System LLC submits Second Revised Sheet 0 et al. to its FERC Gas Tariff, Original Volume 1, to become effective 3/1/08.

Filed Date: 01/29/2008.

Accession Number: 20080130-0202.

Comment Date: 5 p.m. Eastern Time on Monday, February 11, 2008.

Docket Numbers: RP08-177-000.

Applicants: Kern River Gas Transmission Company.

Description: Kern River Gas Transmission Company submits Seventh Revised Sheet 501 et al. to FERC Gas Tariff, Second Revised Volume 1, to become effective 3/1/08.

Filed Date: 01/30/2008.

Accession Number: 20080131-0056.

Comment Date: 5 p.m. Eastern Time on Monday, February 11, 2008.

Docket Numbers: RP08-178-000.

Applicants: Southern Natural Gas Company.

Description: Southern Natural Gas Co. submits Eleventh Revised Sheet 26 et al to FERC Gas Tariff, Seventh Revised Volume 1, to become effective 3/1/08.

Filed Date: 01/30/2008.

Accession Number: 20080131-0194.

Comment Date: 5 p.m. Eastern Time on Monday, February 11, 2008.

Docket Numbers: RP08-179-000.

Applicants: Young Gas Storage Company, Ltd.

Description: Young Gas Storage Co., Ltd submits Eighth Revised Sheet 11 et al. to FERC Gas Tariff, Original Volume 1, to become effective 3/1/08.

Filed Date: 01/30/2008.

Accession Number: 20080131-0193.

Comment Date: 5 p.m. Eastern Time on Monday, February 11, 2008.

Docket Numbers: RP08-180-000.

Applicants: Southern Natural Gas Company.

Description: Southern Natural Gas Co. submits Tenth Revised Sheet 26 et al. to FERC Gas Tariff, Seventh Revised Volume 1, to become effective 3/1/08.

Filed Date: 01/30/2008.

Accession Number: 20080131-0192.

Comment Date: 5 p.m. Eastern Time on Monday, February 11, 2008.

Docket Numbers: RP08-181-000.

Applicants: Southern LNG Inc.

Description: Southern LNG Inc submits Twentieth Revised Sheet 5 et al. to FERC Gas Tariff, Original Volume 1, to become effective 3/1/08.

Filed Date: 01/30/2008.

Accession Number: 20080131-0191.

Comment Date: 5 p.m. Eastern Time on Monday, February 11, 2008.

Docket Numbers: RP08-182-000.

Applicants: Williston Basin Interstate Pipeline Co.

Description: Williston Basin Interstate Pipeline Company submits Third Revised Sheet 202 et al. to FERC Gas Tariff, Second Revised Volume 1, to become effective 3/2/08.

Filed Date: 01/31/2008.

Accession Number: 20080201-0102.

Comment Date: 5 p.m. Eastern Time on Tuesday, February 12, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-2135 Filed 2-5-08; 8:45 am]

BILLING CODE 6717-01-P